INTERNATIONAL TRADE COMMISSION

[Investigation No. 337-TA-641]

In the Matter of Certain Variable Speed Wind Turbines and Components Thereof; Notice of Commission Decision Not To Review an Initial Determination Granting Complainant's Unopposed Motion To Amend the Complaint and Notice of Investigation

AGENCY: U.S. International Trade Commission.

ACTION: Notice.

SUMMARY: Notice is hereby given that the U.S. International Trade Commission has determined not to review an initial determination (“ID”) (Order No. 7) issued by the presiding administrative law judge (“ALJ”) granting complainant's motion to amend the complaint and notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 31, 2008, based on a complaint filed by General Electric Company (“GE”). The complaint alleges violations of section 337 of the Tariff Act of 1930 (19 U.S.C. 1337) in the importation into the United States, the sale for importation, and the sale within the United States after importation of certain variable speed wind turbines and components thereof that allegedly infringe certain claims of United States Patent Nos. 5,083,039 and 6,921,985. The complaint named Mitsubishi Heavy Industries, Ltd. of Tokyo, Japan, Mitsubishi Heavy Industries of America, Inc. of New York, New York, and Mitsubishi Power Systems, Inc. of Lake Mary, Florida.

On September 16, 2007, GE filed a motion to amend the complaint and notice of investigation to correct two clerical errors: (1) An incorrect figure expressed in Confidential Exhibit 30, and (2) a respondent identified by a former name rather than its current name. The motion was not opposed.

On June 18, 2008, the ALJ granted GE's motion, finding that, it is in the best interest of the parties and the public interest for the complaint and notice of investigation to be corrected. No petitions for review of this ID were filed.

The Commission has determined not to review the ALJ's ID.

The authority for the Commission's determination is contained in section 337 of the Tariff Act of 1930, as amended (19 U.S.C. 1337), and in section 210.42 of the Commission's Rules of Practice and Procedure (19 CFR 210.42).

By order of the Commission.
Issued: July 11, 2008.
Marilyn R. Abbott,
Secretary to the Commission.

[FR Doc. E8-16279 Filed 7-16-08; 8:45 am]

BILLING CODE 7020-02-P